ENVIRONMENTAL PROTECTION AGENCY

[ORD-2004-0016; FRL-7913-2]

Agency Information Collection Activities; Submission to OMB for Review and Approval; Comment Request; Application of Measures of Spontaneous Motor Activity for Behavioral Assessment in Human Infants, EPA ICR Number 2166.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before June 16, 2005.

ADDRESSES: Submit your comments, referencing docket ID number ORD-2004-0016, to (1) EPA online using EDOCKET (our preferred method), by e-mail to ord.docket@pa.gov, or by mail to: EPA Docket Center, Environmental Protection Agency, ORD Docket, Mail Code 28221T , 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Suzanne McMaster, Office of Research and Development, Mail Code 58A, Environmental Protection Agency, Research Triangle Park, NC 27711.

SUPPLEMENTARY INFORMATION: EPA has submitted the following ICR to OMB for review and approval according to the procedures prescribed in 5 CFR 1320.12. On November 2, 2004 (69 FR 63527), EPA sought comments on this ICR pursuant to 5 CFR 1320.8(d). EPA received no comments.

EPA has established a public docket for this ICR under Docket ID No. ORD-2004-0016, which is available for public viewing at the Office of Research and Development (ORD) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the ORD Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Application of Measures of Spontaneous Motor Activity for Behavioral Assessment in Human Infants.

Abstract: The goal of the proposed information collection is to test a method to collect data that would be used to quantitatively characterize spontaneous motor activity in young children between the ages of 6 and 24 months. Data from the study will be used to (1) identify sources of variance in infants' and toddlers' daily activity levels, (2) estimate the number of days of activity measurement that would be necessary to reliably measure these activities, and (3) investigate the potential association between activity measures averaged over long periods of time (e.g., days) and activity measures averaged over the duration of a specific event. Data will be analyzed and used to help EPA determine the best way to gather reliable data to further examine the effects of exposure to neurotoxicants on development in young children. The information will appear in the form of final EPA reports and journal articles and will be made publically available.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection is 8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are families with children between 6 and 24 months of age residing in the Research Triangle Park, NC area.

Estimated Number of Respondents: 110.

Frequency of Response: Daily for 7 days.

Estimated Total Annual Hour Burden: 963.

Estimated Total Annual Cost: $16,000, includes $0 annualized capital or O&M costs.

Dated: May 5, 2005.
Oscar Morales,
Director, Collection Strategies Division.

[FR Doc. 05-9779 Filed 5-16-05; 8:45 am]

BILLING CODE 6560-50-P